DEPARTMENT OF HEALTH AND HUMAN SERVICES

Food and Drug Administration

[Docket No. FDA-2007-D-0077 (Formerly 2007D-0213)]

Guidance for Industry on Providing Regulatory Submissions in Electronic Format—Receipt Date; Correction

AGENCY: Food and Drug Administration, HHS.

ACTION: Notice; correction.

SUMMARY: The Food and Drug Administration (FDA) is correcting a notice that appeared in the Federal Register of Friday, February 7, 2014 (79 FR 7463). The document announced the availability of a guidance entitled “Providing Regulatory Submissions in Electronic Format—Receipt Date.” The document was published with an incorrect Web site in the “Electronic Access” section. This document corrects that error.

FOR FURTHER INFORMATION CONTACT: Marina Kalinina, Center for Drug Evaluation and Research, Food and Drug Administration, 10903 New Hampshire Ave., Bldg. 22, rm. 1183, Silver Spring, MD 20993, 301-796-7591; or Stephen Ripley, Center for Biologics Evaluation and Research, Food and Drug Administration, 5515 Security Lane, rm. 5130, Rockville, MD 20852, 301-827-6210.

SUPPLEMENTARY INFORMATION:

In FR Doc. 2014-02654, appearing on page 7463 in the Federal Register of Friday, February 7, 2014, the following correction is made:

1. On page 7464, in the first column, in the “Electronic Access” section, the Web site “http://www.fda.gov/Drugs/DevelopmentApprovalProcess/FormsSubmissionRequirements/ElectronicSubmissions/ucm253101.htm” is corrected to read “http://www.fda.gov/Drugs/GuidanceComplianceRegulatoryInformation/Guidances/default.htm.”

Dated: February 25, 2014.
Leslie Kux,
Assistant Commissioner for Policy.

[FR Doc. 2014-04424 Filed 2-27-14; 8:45 am]

BILLING CODE 4160-01-P